DEPARTMENT OF COMMERCE

National Oceanic and Atmospheric Administration

[I.D. 122205A]

Endangered Species; Permit No. 1266-02

AGENCY: National Marine Fisheries Service (NMFS), National Oceanic and Atmospheric Administration (NOAA), Commerce.

ACTION: Notice; modification of scientific research permit.

SUMMARY: Notice is hereby given that John Glass, (Principal Investigator), REMSA, Inc., 124 West Queens Way, Hampton, Virginia 23669 has been issued a modification to scientific research Permit No. 1266-01.

ADDRESSES: The modification and related documents are available for review upon written request or by appointment in the following office(s):

Permits, Conservation and Education Division, Office of Protected Resources, NMFS, 1315 East-West Highway, Room 13705, Silver Spring, MD 20910; phone (301)713-2289, fax (301)427-2521;

Northeast Region, NMFS, One Blackburn Drive, Gloucester, MA 01930-2298; phone (978)281-9200; fax (978)281-9371; and

Southeast Region, NMFS, 263 13th Ave South, St. Petersburg, FL 33701; phone (727)824-5312; fax (727)824-5309.

FOR FURTHER INFORMATION CONTACT: Carrie Hubard or Amy Hapeman, (301)713-2289.

SUPPLEMENTARY INFORMATION: The requested amendment has been granted under the authority of the Endangered Species Act of 1973, as amended (ESA; 16 U.S.C. 1531 et seq.) and the provisions of 50 CFR 222.306 of the regulations governing the taking, importing, and exporting of endangered and threatened fish and wildlife (50 CFR parts 222-226).

The modification extends the expiration date of the permit from April 30, 2006, to April 30, 2007, for takes of leatherback (Dermochelys coriacea), green (Chelonia mydas), loggerhead (Caretta caretta), hawksbill (Eretmochelys imbricata) and Kemp's ridley (Lepidochelys kempii) sea turtles. The permit allows REMSA, Inc. to conduct sea turtle abundance and relocation trawling activities in conjunction with the U.S. Army Corps of Engineers dredging projects in the Atlantic Ocean and Gulf of Mexico for scientific research and enhancement purposes.

Issuance of this modification, as required by the ESA was based on a finding that such permit: (1) was applied for in good faith; (2) will not operate to the disadvantage of any threatened and endangered species; and (3) is consistent with the purposes and policies set forth in section 2 of the ESA.

Dated: January 11, 2006.
Steve Leathery,
Chief, Permits, Conservation and Education Division, Office of Protected Resources, National Marine Fisheries Service.

[FR Doc. E6-589 Filed 1-18-06; 8:45 am]

BILLING CODE 3510-22-S